ENVIRONMENTAL PROTECTION AGENCY

[EPA-R01-OW-2010-0316, FRL-9170-4]

Massachusetts Marine Sanitation Device Standard—Notice of Determination

AGENCY: Environmental Protection Agency (EPA).

ACTION: Notice of determination.

SUMMARY: The Regional Administrator of the Environmental Protection Agency—New England Region, has determined that adequate facilities for the safe and sanitary removal and treatment of sewage from all vessels are reasonably available for the coastal waters of Pleasant Bay/Chatham Harbor, MA.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U.S. Environmental Protection Agency—New England Region, Office of Ecosystem Protection, Oceans and Coastal Protection Unit, Five Post Office Square, Suite 100, OEP06-1, Boston, MA 02109-3912. Telephone: (617) 918-1538. Fax number: (617) 918-0538. E-mail address: rodney.ann@epa.gov.

SUPPLEMENTARY INFORMATION: On May 7, 2010, EPA published a notice that the Commonwealth of Massachusetts had petitioned the Regional Administrator, Environmental Protection Agency, to determine that adequate facilities for the safe and sanitary removal and treatment of sewage from all vessels are reasonably available for the waters of Pleasant Bay/Chatham Harbor. Three comments were received on this petition. The response to comments can be obtained utilizing the above contact information.

The petition was filed pursuant to Section 312 (f) (3) of Public Law 92-500, as amended by Public Laws 95-217 and 100-4, for the purpose of declaring these waters a No Discharge Area (NDA).

Section 312 (f) (3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of Pleasant Bay/Chatham Harbor. The NDA boundaries are as follows:

Waterbody/General area | From latitude | From longitude | To latitude | To longitude
Bounded on the west by mainland Chatham, Harwich, Brewster and Orleans; bounded on the east by Nauset Beach (North Beach) and North Beach Island. A line drawn cross the mouth of the North inlet across from Minister's Point: | 41°42′19.43″ N. | 69°55′44.76″ W. | 41°42′13.31″ N. | 69°55′45.11″ W.
From West of a line across the mouth of the South Inlet: | 41°40′41.51″ N. | 69°56′3.47″ W. | 41°39′56.52″ N. | 69°56′30.48″ W.

The area includes the municipal waters of Chatham, Harwich, Brewster and Orleans.

The information submitted to EPA by the Commonwealth of Massachusetts certifies that there are three pumpout facilities located within this area. A list of the facilities, with locations, phone numbers, and hours of operation is appended at the end of this determination.

Based on the examination of the petition and its supporting documentation, and information from site visits conducted by EPA New England staff, EPA has determined that adequate facilities for the safe and sanitary removal and treatment of sewage from all vessels are reasonably available for the area covered under this determination.

This determination is made pursuant to Section 312 (f) (3) of Public Law 92-500, as amended by Public laws 95-217 and 100-4.

Pumpout Facilities Within the No Discharge Area
Name | Location | Contact info. | Hours | Mean low water depth
Pleasant Bay/Chatham Harbor
Harbormaster | Round Cove Harwich | 508-430-7532, VHF 60 | On demand | N/A.
Harbormaster | Ryder's Cove Chatham | 508-945-1067 or 508-945-5185, VHF 66 | M-F 8 a.m.-5 p.m., Sat. 9 a.m.-1 p.m | 3 ft.
Nauset Marine East | 37 Barley Neck Road, East Orleans | 508-255-3045, VHF 9 | On demand | 3 ft.

Dated: June 24, 2010.
H. Curtis Spalding,
Regional Administrator, New England Region.

[FR Doc. 2010-16174 Filed 7-1-10; 8:45 am]

BILLING CODE 6560-50-P